DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Baldwin County, Alabama and Incorporated Areas
Docket No.: FEMA-B-7456
D'Olive Creek | Just upstream of Lake Forest Dam | +25 | City of Daphne.
| Just downstream of U.S. Highway 90 | +35
Tiawasee Creek | Confluence with D'Olive Creek at Lake Forest | +25 | City of Daphne.
| Approximately 1,500 feet upstream of Ridgewood Drive | +60
Styx River | Just downstream of Truck Route 17 (Brady Road) | +77 | Baldwin County (Unincorporated Areas).
| Approximately 3,100 feet upstream of Pinegrove Road | +168
# Depth in feet above ground.
* National Geodetic Vertical Datum.
+ National American Vertical Datum.
ADDRESSES
Baldwin County (Unincorporated Areas)
Maps are available for inspection at the Baldwin County Building Department, 201 East Section Street, Foley, Alabama 36535.
City of Daphne
Maps are available for inspection at the Department of Community Development, 2651 Equity Drive, Daphne, Alabama 36526.
Carroll County, Kentucky and Incorporated Areas
Docket No.: FEMA-B-7470
Ohio River | Western County boundary with Trimble County | +465 | Carroll County (Unincorporated Areas).
| Eastern County boundary with Gallatin County | +472
# Depth in feet above ground.
* National Geodetic Vertical Datum.
+ National American Vertical Datum.
ADDRESSES
Carroll County Unincorporated Areas
Maps are available for inspection at Carroll Emergency Operations Center, 829 Polk Street, Carrollton, Kentucky 41008.
Halifax County, North Carolina and Incorporated Areas
Docket Nos.: FEMA-D-7660, B-7465, and D-7560
Bear Swamp | Approximately 500 feet upstream of the confluence with Little Fishing Creek | +161 | Halifax County (Unincorporated Areas).
| Approximately 3.4 miles upstream of Airlie Road | +214
Beaverdam Swamp | Approximately 0.6 mile upstream of the confluence with Marsh Swamp | +82 | Halifax County (Unincorporated Areas).
| Approximately 1.5 miles upstream of Interstate 95 | +132
Beaverdam Swamp Tributary | At the confluence with Beaverdam Swamp | +106 | Halifax County (Unincorporated Areas).
| Approximately 1.5 miles upstream of Beaverdam Road | +120
Beech Swamp | At the confluence with Fishing Creek | +62 | Halifax County (Unincorporated Areas), Town of Enfield.
| Approximately 0.5 mile upstream of the confluence of Beech Swamp Tributary 1 | +77
Tributary 1 | At the confluence with Beech Swamp | +75 | Halifax County (Unincorporated Areas).
| Approximately 700 feet upstream of Thirteen Bridges Road | +103
Tributary 2 | At the confluence with Beech Swamp Tributary 1 | +77 | Halifax County (Unincorporated Areas).
| Approximately 0.5 mile upstream of Loop Road | +93
Tributary 3 | Approximately 0.5 mile upstream of the confluence with Beech Swamp | +81 | Halifax County (Unincorporated Areas), Town of Enfield.
| Approximately 1.4 miles upstream of the confluence with Beech Swamp | +97
Bells Branch | At the confluence with Chockoyotte Creek | +116 | City of Roanoke Rapids
| Approximately 850 feet upstream of the confluence with Chockoyotte Creek | +116
Bens Creek | At the confluence with Little Fishing Creek | +186 | Halifax County (Unincorporated Areas).
| Approximately 1.5 miles upstream of the Halifax/Warren County boundary | +199
Breeches Swamp | At the confluence with Jacket Swamp | +95 | Halifax County (Unincorporated Areas).
| Approximately 0.8 mile upstream of Ringwood Road | +107
Burnt Coat Swamp | Approximately 0.5 mile downstream of Justice Branch Road | +81 | Halifax County (Unincorporated Areas), Town of Enfield.
| Approximately 2.0 miles upstream of the confluence of Jacket Swamp | +102
Butterwood Creek | At the confluence with Bear Swamp | +176 | Halifax County (Unincorporated Areas).
| Approximately 1.3 miles upstream of Cold Mine School Road | +267
Chockoyotte Creek | At the confluence with Roanoke River | +57 | Halifax County (Unincorporated Areas), City of Roanoke Rapids, Town of Weldon.
| Approximately 2.0 miles upstream of Zoo Road | +202
Chockoyotte Creek Tributary | At the confluence with Chockoyotte Creek | +79 | Town of Weldon, City of Roanoke Rapids, Halifax County (Unincorporated Areas).
| Approximately 30 feet downstream of County Road | +87
Tributary A | At the confluence with Chockoyotte Creek | +94 | Halifax County (Unincorporated Areas), City of Roanoke Rapids.
| Approximately 1,490 feet upstream of American Legion Road | +135
Tributary B | At the confluence with Chockoyotte Creek | +114 | City of Roanoke Rapids.
| Approximately 40 feet downstream of Julian R. Allsbrook Highway | +127
Conoconnara Swamp | At the confluence with Roanoke River | +43 | Halifax County (Unincorporated Areas).
| Approximately 1,000 feet upstream of NC-481 | +80
Tributary 1 | At the confluence with Conoconnara Swamp | +58 | Halifax County (Unincorporated Areas).
| Approximately 3.5 miles upstream of the confluence with Conoconnara Swamp | +67
Tributary 2 | At the confluence with Conoconnara Swamp | +72 | Halifax County (Unincorporated Areas).
| Approximately 0.7 mile upstream of the confluence with Conoconnara Swamp | +78
Tributary 2A | At the confluence with Conoconnara Swamp Tributary 2 | +77 | Halifax County (Unincorporated Areas).
| Approximately 0.8 mile upstream of the confluence with Conoconnara Swamp | +85
Tributary 3 | At the confluence with Conoconnara Swamp | +75 | Halifax County (Unincorporated Areas).
| Approximately 0.6 mile upstream of NC-481 | +80
Deep Creek | At the Halifax-Edgecombe County boundary | +61 | Halifax County (Unincorporated Areas).
| Approximately 150 feet downstream of Moonlight Road (SR 1003) | +101
Deep Creek (into Roanoke River) | Approximately 0.7 mile downstream of Thelma Road (SR 1400) | +133 | Halifax County (Unincorporated Areas).
| Approximately 80 feet downstream of Roper Springs Road (SR 1525) | +189
Tributary 1 | At the confluence with Deep Creek (into Roanoke River) | +136 | Halifax County (Unincorporated Areas).
| Approximately 0.4 mile upstream of the confluence with Deep Creek (into Roanoke River) | +151
Tributary 2 | At the confluence with Deep Creek (into Roanoke River) | +146 | Halifax County (Unincorporated Areas).
| Approximately 1,375 feet upstream of the confluence with Deep Creek (into Roanoke River) Tributary 2A | +162
Tributary 2A | At the confluence with Deep Creek (into Roanoke River) Tributary 2 | +146 | Halifax County (Unincorporated Areas).
| Approximately 1,300 feet upstream of the confluence with deep Creek (into Roanoke River) Tributary 2 | +159
Tributary 4 | At the confluence with Deep Creek (into Roanoke River) | +175 | Halifax County (Unincorporated Areas).
| Approximately 0.5 mile upstream of the confluence with Deep Creek (into Roanoke River) | +181
Tributary 3 | At the confluence with Deep Creek (into Roanoke River) | +154 | Halifax County (Unincorporated Areas).
| Approximately 1,700 feet upstream of the confluence with Deep Creek (into Roanoke River) | +163
Deep Creek Tributary | At the confluence with Deep Creek | +86 | Halifax County (Unincorporated Areas).
| Approximately 1.5 miles upstream of Thirteen Bridges Road | +106
Tributary 5 | At the confluence with Deep Creek | +62 | Halifax County (Unincorporated Areas), Town of Hobgood.
| Approximately 0.5 mile upstream of the confluence with Deep Creek Tributary 6 | +77
Tributary 6 | At the confluence with Deep Creek Tributary 5 | +76 | Halifax County (Unincorporated Areas).
| Approximately 0.5 mile upstream of the confluence with Deep Creek Tributary 5 | +79
Tributary 7 | At the confluence with Deep Creek | +67 | Halifax County (Unincorporated Areas).
| Approximately 2.1 miles upstream of the confluence with Deep Creek | +77
Fishing Creek | At the Halifax-Edgecome County boundary | +60 | Halifax County (Unincorporated Areas).
| At the Halifax-Warren County boundary | +165
Tributary 4 | At the confluence with Fishing Creek | +81 | Halifax County (Unincorporated Areas).
| Approximately 500 feet upstream of Thirteen Bridges Road | +101
Tributary 5 | At the confluence of Fishing Creek | +90 | Halifax County (Unincorporated Areas), Town of Enfield.
| Approximately 0.7 mile upstream of South Dennis Street | +102
Hales Branch | At the upstream side of Zoo Road South | +215 | Halifax County (Unincorporated Areas).
| Approximately 1,200 feet upstream of Zoo Road South | +227
Hales Mill Pond Branch | At the confluence with Conoconnara Swamp | +67 | Halifax County (Unincorporated Areas).
| Approximately 300 feet upstream of Old 125 Road (SR 1103) | +73
Jacket Swamp | At the confluence with Burnt Coat Swamp | +90 | Halifax County (Unincorporated Areas).
| Approximately 0.8 mile upstream of 95 | +115
Keehukee Swamp | At the confluence with Roanoke River | +28 | Halifax County (Unincorporated Areas).
| Approximately 250 feet downstream of Railroad | +61
Tributary 1 | At the confluence with Keehukee Swamp | +28 | Halifax County (Unincorporated Areas).
| Approximately 1,650 feet upstream of the confluence with Keehukee Swamp | +28
Tributary 2 | Approximately 2.1 miles upstream of the confluence with Keehukee Swamp | +47 | Halifax County (Unincorporated Areas).
| At the confluence with Keehukee Swamp | +29
Little Fishing Creek | Approximately 0.3 mile upstream of confluence with Bear Swamp | +161 | Halifax County (Unincorporated Areas).
| At the Halifax-Warren County boundary | +186
Tributary 1 | At the confluence with Little Fishing Creek | +165 | Halifax County (Unincorporated Areas).
| Approximately 0.4 mile upstream of confluence of Little Fishing Creek Tributary 3 | +227
Tributary 2 | At the confluence with Little Fishing Creek Tributary 1 | +200 | Halifax County (Unincorporated Areas).
| At the Halifax-Warren County boundary | +240
Tributary 3 | At the confluence with Little Fishing Creek Tributary 1 | +216 | Halifax County (Unincorporated Areas).
| Approximately 400 feet upstream of Highway 561 | +238
Tributary 4 | At the confluence with Little Fishing Creek | +175 | Halifax County (Unincorporated Areas).
| At the Halifax-Warren County boundary | +188
Tributary 5 | At the confluence with Little Fishing Creek Tributary 4 | +175 | Halifax County (Unincorporated Areas).
| Approximately 0.7 mile upstream of the confluence of Little Fishing Creek Tributary 4 | +192
Tributary 6 | At the confluence with Little Fishing Creek | +178 | Halifax County (Unincorporated Areas).
| Approximately 1.9 miles upstream of the confluence with Little Fishing Creek | +205
Tributary 7 | At the confluence with Little Fishing Creek | +181 | Halifax County (Unincorporated Areas).
| Approximately 0.9 mile upstream of Spruills Bridge Road | +200
Little Quankey Creek | Approximately 750 feet upstream of Interstate 95 | +134 | Halifax County (Unincorporated Areas).
| Approximately 600 feet upstream of NC-48 | +176
Little Quankey Creek | At the confluence with Quankey Creek | +87 | Town of Halifax.
| Approximately 0.75 mile upstream of NC-903 | +87
Marsh Swamp | At the downstream side of Aurelian Springs Road | +129 | Halifax County (Unincorporated Areas).
| Approximately 0.7 mile upstream of Aurelian Springs Road | +130
Tributary 1 | Approximately 1,500 feet upstream of the confluence with Marsh Swamp | +85 | Halifax County (Unincorporated Areas).
| Approximately 0.4 mile downstream of Justice Branch Road | +99
Tributary 2 | Approximately 1,500 feet upstream of the confluence with Marsh Swamp | +92 | Halifax County (Unincorporated Areas).
| Approximately 1.1 miles upstream of the railroad | +96
Nash Creek | Approximately 1.1 miles upstream of the confluence with Bells Branch and and Hales Branch | +143 | Halifax County (Unincorporated Areas).
| Approximately 2.5 miles upstream of the confluence with Bells Branch and Hales Branch | +172
Porter Creek | At the confluence with Little Fishing Creek | +166 | Halifax County (Unincorporated Areas).
| At the Halifax-Warren County boundary | +227
Quankey Creek | At the confluence with Roanoke River | +50 | Halifax County (Unincorporated Areas), Town of Halifax.
| At the confluence with Little Quankey Creek | +87
Reedy Creek | At the confluence with Little Fishing Creek | +180 | Halifax County (Unincorporated Areas).
| At the Halifax-Warren County boundary | +180
Roanoke River | At the Martin/Bertie/Halifax County boundary | +28 | Halifax County (Unincorporated Areas), City of Roanoke Rapids, Town of Halifax, Town of Weldon.
| At the downstream side of Gaston Dam | +136
Rocky Swamp | Approximately 800 feet downstream of Highway 481 | +109 | Halifax County (Unincorporated Areas).
| Approximately 1.0 mile upstream of Sledge Road | +194
Webbs Mill Branch | At the confluence with Keehukee Swamp | +34 | Halifax County (Unincorporated Areas).
| Approximately 0.3 mile upstream of the confluence with Webbs Mill Branch Tributary 2 | +50
Tributary 1 | At the confluence with Webbs Mill Branch | +38 | Halifax County (Unincorporated Areas).
| Approximately 0.7 mile upstream of the confluence with Webbs Mill Branch | +57
Tributary 2 | At the confluence with Webbs Mill Branch | +45 | Halifax County (Unincorporated Areas), Town of Scotland Neck.
| Approximately 0.6 mile upstream of the confluence with Webbs Mill Branch | +51
# Depth in feet above ground.
* National Geodetic Vertical Datum.
+ North American Vertical Datum.
ADDRESSES
Town of Enfield
Maps are available for inspection at the Enfield Town Hall, 105 Northwest Railroad Street, Enfield, North Carolina.
Town of Halifax
Maps are available for inspection at the Halifax Town Hall, 24 South King Street, Halifax, North Carolina.
Town of Hobgood
Maps are available for inspection at the Hobgood Town Hall, 207 West Commerce Street, Hobgood, North Carolina.
City of Roanoke Rapids
Maps are available for inspection at the City of Roanoke Rapids Planning Department, 1040 Roanoke Avenue, Roanoke Rapids, North Carolina.
Town of Scotland Neck
Maps are available for inspection at the Scotland Neck Town Hall, 1310 Main Street, Scotland Neck, North Carolina.
Town of Weldon
Maps are available for inspection at the Weldon Town Hall, 109 Washington Avenue, Weldon, North Carolina.
Halifax County (Unincorporated Areas)
Maps are available for inspection at the Halifax County Public Works Building, 26 North King Street, Room 102, Halifax, North Carolina.
Rockingham County, North Carolina and Incorporated Areas
Docket Nos: FEMA-D-7660 and D-7626
Belews Creek | At the confluence with Dan River | +588 | Rockingham County (Unincorporated Areas).
| At the confluence with Belews Lake | +737
Belews Creek Tributary 1 | At the confluence with Belews Creek | +588 | Rockingham County (Unincorporated Areas).
| Approximately 1.0 mile upstream of the confluence with Belews Creek Tributary 2 of Tributary 1 | +636
Tributary 1 of Tributary 1 | At the confluence with Belews Creek Tributary 1 | +588 | Rockingham County (Unincorporated Areas).
| Approximately 0.4 mile upstream of the confluence with Belews Creek Tributary 1 | +662
Tributary of Tributary 2 | At the confluence with Belews Creek Tributary 2 | +780 | Rockingham County (Unincorporated Areas).
| Approximately 1,450 feet upstream of the confluence with Belews Creek Tributary 2 | +854
Tributary of Tributary 3 | At the Rockingham/Stokes County boundary | +737 | Rockingham County (Unincorporated Areas).
| Approximately 1.5 miles upstream of the confluence with Belews Lake | +785
Tributary 2 | At the confluence with Belews Lake | +737 | Rockingham County (Unincorporated Areas).
| Approximately 0.5 mile upstream of the confluence of Belews Creek Tributary 1 of Tributary 2 | +822
Tributary 2 of Tributary 1 | At the confluence with Belews Creek Tributary 1 | +588 | Rockingham County (Unincorporated Areas).
| Approximately 0.7 mile upstream of the confluence with Belews Creek Tributary 1 | +645
Belews Lake | The entire shoreline within the county | +737 | Rockingham County (Unincorporated Areas).
Benaja Creek | At the confluence with Haw River. | +665 | Rockingham County (Unincorporated Areas).
| At the Guilford/Rockingham County boundary | +688
Big Beaver Island Creek | Approximately 0.5 mile downstream of Park Road | +663 | Rockingham County (Unincorporated Areas).
| At the Rockingham/Stokes County boundary | +768
Tributary 10 | At the confluence with Big Beaver Island Creek | +738 | Rockingham County (Unincorporated Areas).
| Approximately 700 feet upstream of the confluence with Big Beaver Island Creek | +746
Tributary 11 | At the confluence with Big Beaver Island Creek | +760 | Rockingham County (Unincorporated Areas).
| At the Rockingham/Stokes County boundary | +765
Tributary 12 | At the confluence with Big Beaver Island Creek | +764 | Rockingham County (Unincorporated Areas).
| Approximately 950 feet upstream of the confluence with Big Beaver Island Creek | +798
Tributary 7 | At the confluence with Big Beaver Island Creek | +688 | Rockingham County (Unincorporated Areas).
| Approximately 850 feet upstream of the confluence with Big Beaver Island Creek | +696
Boaz Creek | At the confluence with Mayo River | +656 | Rockingham County (Unincorporated Areas), Town of Stoneville.
| Approximately 0.5 mile upstream of the confluence with Boaz Creek Tributary | +657
Boaz Creek Tributary | At the confluence with Boaz Creek | +656 | Rockingham County (Unincorporated Areas).
| Approximately 0.4 mile upstream of the confluence with Boaz Creek | +667
Brushy Creek | At the confluence with Jacobs Creek | +578 | Rockingham County (Unincorporated Areas).
| Approximately 1,800 feet upstream of Sharp Road | +628
Brushy Creek Tributary | At the confluence with Brushy Creek | +621 | Rockingham County (Unincorporated Areas).
| Approximately 0.8 mile upstream of the confluence with Brushy Creek | +660
Buffalo Creek (into Dan River) | At the confluence with Dan River | +527 | Rockingham County (Unincorporated Areas), City of Eden.
| Approximately 2.4 miles upstream of Wray Road | +920
Tributary 2 | At the confluence with Buffalo Creek (into Dan River) | +527 | Rockingham County (Unincorporated Areas), City of Eden.
| Approximately 1,500 feet upstream of the confluence of Buffalo Creek (into Dan River) | +528
Tributary 3 | At the confluence with Buffalo Creek (into Dan River) | +528 | Rockingham County (Unincorporated Areas), City of Eden.
| Approximately 100 feet upstream of SR 770 | +572
Tributary 4 | At the confluence with Buffalo Creek (into Dan River) | +528 | Rockingham County (Unincorporated Areas).
| Approximately 500 feet upstream of Roberts Road | +627
Tributary 5 | At the confluence with Buffalo Creek (into Dan River) | +538 | Rockingham County (Unincorporated Areas).
| Approximately 1,700 feet upstream of the confluence with Buffalo Creek (into Dan River) | +545
Buffalo Creek (into Mayo River) | At the confluence with Mayo River | +697 | Rockingham County (Unincorporated Areas).
| At the Rockingham/Stokes County boundary | +753
Buffalo Creek (into Mayo River) Tributary | At the confluence with Buffalo Creek (into Mayo River) | +697 | Rockingham County (Unincorporated Areas).
| Approximately 1,200 feet upstream of the confluence with Buffalo Creek (into Mayo River) | +710
Candy Creek | At the confluence with Haw River | +663 | Rockingham County (Unincorporated Areas).
| Approximately 200 feet downstream of Guilford/Rockingham County boundary | +700
Cascade Creek | At the confluence with Dan River | +499 | Rockingham County (Unincorporated Areas).
| At the North Carolina/Virginia State Line | +505
County Line Creek | At the Rockingham/Caswell County boundary | +602 | Rockingham County (Unincorporated Areas).
| Approximately 150 feet upstream of the Rockingham/Caswell County boundary | +604
Covenant Branch | At the confluence with Dan River | +508 | Rockingham County (Unincorporated Areas), City of Eden.
| Approximately 1.2 miles upstream of the confluence with Dan River | +527
Dan River | At the Rockingham/Caswell County boundary | +470 | Rockingham County (Unincorporated Areas), City of Eden.
| Approximately 900 feet upstream of the Rockingham/Stokes County boundary | +588
Tributary 1 of Tributary 26 | At the confluence with Dan River Tributary 26 | +548 | Rockingham County (Unincorporated Areas).
| Approximately 0.4 mile upstream of Belton Road | +597
Tributary 10 | At the confluence with Dan River | +533 | Rockingham County (Unincorporated Areas).
| Approximately 1,000 feet upstream of the confluence of Dan River Tributary of Tributary 10 | +535
Tributary 11 | At the confluence with Dan River | +535 | Rockingham County (Unincorporated Areas).
| Approximately 1,800 feet upstream of the confluence with Dan River | +540
Tributary 15 | At the confluence with Dan River | +540 | Rockingham County (Unincorporated Areas).
| Approximately 400 feet upstream of Eagle Falls Road | +550
Tributary 16 | At the confluence with Dan River | +541 | Rockingham County (Unincorporated Areas).
| Approximately 1,200 feet upstream of the confluence with Dan River | +555
Tributary 17 | At the confluence with Dan River | +541 | Rockingham County (Unincorporated Areas).
| Approximately 0.5 mile upstream of the confluence with Dan River | +562
Tributary 19 | At the confluence with Dan River | +542 | Rockingham County (Unincorporated Areas).
| Approximately 1,300 feet upstream of the confluence with Dan River | +554
Tributary 2 of Tributary 26 | At the confluence with Dan River Tributary 26 | +548 | Rockingham County (Unincorporated Areas).
| Approximately 1,300 feet upstream of the confluence with Dan River Tributary 26 | +562
Tributary 2 of Tributary 32 | At the confluence with Dan River Tributary 32 | +576 | Rockingham County (Unincorporated Areas).
| Approximately 1,000 feet upstream of the confluence with Dan River Tributary 32 | +582
Tributary 20 | At the confluence with Dan River | +543 | Rockingham County (Unincorporated Areas).
| Approximately 0.5 mile upstream of the confluence with Dan River | +563
Tributary 21 | At the confluence with Dan River | +547 | Rockingham County (Unincorporated Areas).
| Approximately 1,750 feet upstream of the confluence with Dan River | +591
Tributary 23 | At the confluence with Dan River | +547 | Rockingham County (Unincorporated Areas).
| Approximately 0.6 mile upstream of the confluence with Dan River | +571
Tributary 26 | At the confluence with Dan River | +548 | Rockingham County (Unincorporated Areas).
| Approximately 600 feet upstream of Grogan Road | +572
Tributary 29 | At the confluence with Dan River | +549 | Rockingham County (Unincorporated Areas).
| Approximately 0.8 mile upstream of the confluence with Dan River | +560
Tributary 32 | At the confluence with Dan River | +551 | Rockingham County (Unincorporated Areas).
| Approximately 0.7 mile upstream of the confluence with Dan River Tributary 2 of Tributary 32 | +590
Tributary 33 | At the confluence with Dan River | +554 | Rockingham County (Unincorporated Areas).
| Approximately 0.7 mile upstream of the confluence with Dan River | +589
Tributary 34 | At the confluence with Dan River | +555 | Rockingham County (Unincorporated Areas).
| Approximately 1.1 miles upstream of the confluence with Dan River | +627
Tributary 35 | At the confluence with Dan River | +558 | Rockingham County (Unincorporated Areas).
| Approximately 0.7 mile upstream of the confluence with Dan River | +639
Tributary 36 | At the confluence with Dan River | +558 | Rockingham County (Unincorporated Areas).
| Approximately 0.4 mile upstream of the confluence with Dan River | +562
Tributary 37 | At the confluence with Dan River | +559 | Rockingham County (Unincorporated Areas).
| Approximately 0.7 mile upstream of the confluence with Dan River | +598
Tributary 38 | At the confluence with Dan River | +562 | Rockingham County (Unincorporated Areas).
| Approximately 0.5 mile upstream of the confluence with Dan River | +566
Tributary 39 | At the confluence with Dan River | +567 | Rockingham County (Unincorporated Areas).
| Approximately 1,300 feet upstream of the confluence with Dan River | +598
Tributary 44 | At the confluence with Dan River | +584 | Rockingham County (Unincorporated Areas), Town of Madison.
| Approximately 1,900 feet upstream of the confluence with Dan River | +587
Tributary 45 | At the confluence with Dan River | +584 | Rockingham County (Unincorporated Areas).
| Approximately 0.4 mile upstream of the confluence with Dan River | +584
Tributary 47 | At the confluence with Dan River | +585 | Rockingham County (Unincorporated Areas).
| Approximately 800 feet upstream of Dodge Loop Road | +591
Tributary 48 | At the confluence with Dan River | +585 | Rockingham County (Unincorporated Areas).
| At the Rockingham/Stokes County boundary | +592
Tributary 49 | At the confluence with Dan River | +585 | Rockingham County (Unincorporated Areas).
| Approximately 1,900 feet upstream of the confluence with Dan River | +608
Tributary 51 | At the confluence with Dan River | +586 | Rockingham County (Unincorporated Areas).
| At the Rockingham/Stokes County boundary | +586
Tributary 6 | At the confluence with Dan River | +529 | Rockingham County (Unincorporated Areas).
| Approximately 0.5 mile upstream of the confluence with Dan River | +544
Tributary 7 | At the confluence with Dan River | +530 | Rockingham County (Unincorporated Areas).
| Approximately 0.6 mile upstream of the confluence with Dan River | +562
Tributary near Powells Store | At the confluence with Dan River | +503 | Rockingham County (Unincorporated Areas).
| Approximately 300 feet upstream of Chumney Loop | +536
Tributary of Tributary 10 | At the confluence with Dan River Tributary 10 | +533 | Rockingham County (Unincorporated Areas).
| Approximately 50 feet downstream of Riverside Circle | +545
Dry Creek | At the confluence with Cascade Creek | +499 | Rockingham County (Unincorporated Areas), City of Eden.
| Approximately 0.5 mile upstream of Main Street | +568
Eurins Creek | At the confluence with Belews Creek | +588 | Rockingham County (Unincorporated Areas).
| At the Rockingham/Stokes County boundary | +588
Fall Creek | At the confluence with Mayo River | +715 | Rockingham County (Unincorporated Areas).
| At North Carolina/Virginia State boundary | +748
Fall Creek Tributary | At the confluence with Fall Creek | +745 | Rockingham County (Unincorporated Areas).
| Approximately 1,000 feet upstream of the confluence with Fall Creek | +748
Giles Creek | At the confluence with Haw River | +650 | Rockingham County (Unincorporated Areas).
| Approximately 950 feet upstream of State Route 87 | +688
Haw River | At the Guilford/Rockingham County boundary | +642 | Rockingham County (Unincorporated Areas).
| At the Guilford/Rockingham County boundary | +731
Tributary 16 | At the confluence with Haw River | +644 | Rockingham County (Unincorporated Areas).
| Approximately 1.3 miles upstream of Kernodle Road | +664
Tributary 17 | At the confluence with Haw River | +691 | Rockingham County (Unincorporated Areas).
| Approximately 0.6 mile upstream of the confluence of Haw River | +713
Tributary 18 | At the confluence with Haw River Tributary 17 | +691 | Rockingham County (Unincorporated Areas).
| Approximately 0.6 mile upstream of the confluence with Haw River Tributary 17 | +724
Hickory Creek | At the confluence with Mayo River | +690 | Rockingham County (Unincorporated Areas).
| Approximately 1,600 feet upstream of the confluence with Mayo River | +690
Hogans Creek (into Dan River east) | At the confluence of Lick Fork Creek | +470 | Rockingham County (Unincorporated Areas).
| Approximately 0.4 mile upstream of Bob White Drive | +741
Tributary 10 | At the confluence with Hogans Creek (into Dan River east) | +577 | Rockingham County (Unincorporated Areas).
| Approximately 1.0 mile upstream of the confluence with Hogans Creek (into Dan River east) | +688
Tributary 11 | At the confluence with Hogans Creek (into Dan River east) | +579 | Rockingham County (Unincorporated Areas).
| Approximately 0.7 mile upstream of the confluence with Hogans Creek (into Dan River east) | +647
Tributary 12 | At the confluence with Hogans Creek (into Dan River east) | +589 | Rockingham County (Unincorporated Areas).
| Approximately 0.5 mile upstream of the confluence with Hogans Creek (into Dan River east) | +607
Tributary 13 | At the confluence with Hogans Creek (into Dan River east) | +595 | Rockingham County (Unincorporated Areas).
| Approximately 0.5 mile upstream of the confluence with Hogans Creek (into Dan River east) | +610
Tributary 4 | At the confluence with Hogans Creek (into Dan River east) | +476 | Rockingham County (Unincorporated Areas).
| At the Rockingham/Caswell County boundary | +476
Tributary 4A | At the confluence with Hogans Creek (into Dan River east) | +504 | Rockingham County (Unincorporated Areas).
| Approximately 0.9 mile upstream of the confluence with Hogans Creek (into Dan River east) | +521
Tributary 5 | At the confluence with Hogans Creek (into Dan River east) | +550 | Rockingham County (Unincorporated Areas).
| Approximately 0.6 mile upstream of the confluence with Hogans Creek (into Dan River east) | +572
Tributary 7 | At the confluence with Hogans Creek (into Dan River east) | +558 | Rockingham County (Unincorporated Areas).
| Approximately 0.9 mile upstream of the confluence with Hogans Creek (into Dan River east) | +585
Tributary 8 | At the confluence with Hogans Creek (into Dan River east) | +569 | Rockingham County (Unincorporated Areas).
| Approximately 0.7 mile upstream of the confluence with Hogans Creek (into Dan River east) | +647
Tributary 9 | At the confluence with Hogans Creek (into Dan River east) | +574 | Rockingham County (Unincorporated Areas).
| Approximately 0.8 mile upstream of the confluence with Hogans Creek (into Dan River east) | +659
Hogans Creek (into Dan River west) | At the confluence with Dan River | +554 | Rockingham County (Unincorporated Areas).
| Approximately 0.4 mile upstream of Lemons Road | +799
Tributary 1 | At the confluence with Hogans Creek (into Dan River west) | +630 | Rockingham County (Unincorporated Areas).
| Approximately 200 feet upstream of Bald Hill Loop Road | +647
Tributary 2 | At the confluence with Hogans Creek (into Dan River west) | +639 | Rockingham County (Unincorporated Areas).
| Approximately 1,500 feet upstream of the confluence with Hogans Creek (into Dan River west) | +655
Huffines Mill Creek | At the confluence with Little Jacobs Creek | +573 | Rockingham County (Unincorporated Areas).
| Approximately 0.6 mile upstream of the confluence with Little Jacobs Creek | +615
Island Creek | Approximately 100 feet upstream of the confluence with Big Beaver Island Creek | +656 | Rockingham County (Unincorporated Areas).
| Approximately 0.9 mile upstream of Case School Road | +716
Jacobs Creek | At the confluence with Dan River | +551 | Rockingham County (Unincorporated Areas).
| Approximately 1.3 miles upstream of Carlton Road | +765
Tributary 1 | At the confluence with Jacobs Creek | +557 | Rockingham County (Unincorporated Areas).
| Approximately 0.6 mile upstream of the confluence with Jacobs Creek | +572
Tributary 2 | At the confluence with Jacobs Creek | +599 | Rockingham County (Unincorporated Areas).
| Approximately 1,300 feet upstream of the confluence with Jacobs Creek | +606
Tributary 3 | At the confluence with Jacobs Creek | +660 | Rockingham County (Unincorporated Areas).
| Approximately 1,100 feet upstream of the confluence with Jacobs Creek | +675
Tributary 4 | At the confluence with Jacobs Creek | +678 | Rockingham County (Unincorporated Areas).
| Approximately 0.5 mile upstream of Angoll Road | +700
Jacobs Creek Tributary near Gold Hill | At the confluence with Jacobs Creek | +681 | Rockingham County (Unincorporated Areas).
| Approximately 1,200 feet upstream of the confluence with Jacobs Creek | +699
Jacobs Creek Tributary near SR 2190 | At the confluence with Jacobs Creek | +551 | Rockingham County (Unincorporated Areas).
| Approximately 0.5 mile upstream of the confluence with Jacobs Creek | +564
Jones Branch (Jones Creek) | At the confluence with Matrimony Creek | +632 | Rockingham County (Unincorporated Areas).
| Approximately 900 feet upstream of the confluence with Matrimony Creek | +643
Jones Creek | At the confluence with Hogans Creek (into Dan River east) | +500 | Rockingham County (Unincorporated Areas), City of Reidsville.
| Approximately 1.0 mile upstream of the confluence with North Fork Jones Creek | +640
Tributary 8 | At the confluence with Jones Creek | +586 | Rockingham County (Unincorporated Areas).
| Approximately 700 feet upstream of the confluence with Jones Creek | +592
Tributary 1 | At the confluence with Jones Creek | +506 | Rockingham County (Unincorporated Areas).
| Approximately 1,300 feet upstream of the confluence with Jones Creek | +575
Tributary 2 | At the confluence with Jones Creek | +511 | Rockingham County (Unincorporated Areas).
| Approximately 0.5 mile upstream of the confluence with Jones Creek | +580
Tributary 3 | At the confluence with Jones Creek | +515 | Rockingham County (Unincorporated Areas).
| Approximately 0.6 mile upstream of the confluence with Jones Creek | +615
Tributary 4 | At the confluence with Jones Creek | +522 | Rockingham County (Unincorporated Areas).
| Approximately 0.6 mile upstream of the confluence with Jones Creek | +640
Tributary 5 | At the confluence with Jones Creek | +526 | Rockingham County (Unincorporated Areas).
| Approximately 0.6 mile upstream of the confluence with Jones Creek | +581
Tributary 6 | At the confluence with Jones Creek | +528 | Rockingham County (Unincorporated Areas).
| Approximately 0.7 mile upstream of the confluence with Jones Creek | +644
Tributary 9 | At the confluence with Jones Creek | +592 | Rockingham County (Unincorporated Areas).
| Approximately 0.5 mile upstream of the confluence with Jones Creek | +605
Lick Fork Creek | At the Caswell/Rockingham County boundary | +470 | Rockingham County (Unincorporated Areas), City of Reidsville.
| Approximately 0.5 mile upstream of NC 14 | +677
Tributary 1 | At the confluence with Lick Fork Creek | +470 | Rockingham County (Unincorporated Areas).
| Approximately 800 feet upstream of the confluence with Lick Fork Creek | +476
Tributary 10 | At the confluence with Lick Fork Creek | +538 | Rockingham County (Unincorporated Areas).
| Approximately 0.4 mile upstream of the confluence with Lick Fork Creek | +546
Tributary 12 | At the confluence with Lick Fork Creek | +567 | Rockingham County (Unincorporated Areas).
| Approximately 620 feet upstream of the confluence with Lick Fork Creek | +570
Tributary 16 | At the confluence with Lick Fork Creek | +586 | Rockingham County (Unincorporated Areas).
| Approximately 1,000 feet upstream of the confluence with Lick Fork Creek | +596
Tributary 17 | At the confluence with Lick Fork Creek | +594 | Rockingham County (Unincorporated Areas).
| Approximately 700 feet upstream of the confluence with Lick Fork Creek | +603
Tributary 5 | At the confluence with Lick Fork Creek | +484 | Rockingham County (Unincorporated Areas).
| Approximately 1,300 feet upstream of the confluence with Lick Fork Creek | +496
Tributary 6 | At the confluence with Lick Fork Creek | +490 | Rockingham County (Unincorporated Areas).
| Approximately 1.2 miles upstream of the confluence with Lick Fork Creek | +531
Tributary 9 | At the confluence with Lick Fork Creek | +534 | Rockingham County (Unincorporated Areas).
| Approximately 1.0 mile upstream of Hidden Valley Drive | +617
Little Beaver Island Creek | Approximately 0.9 mile downstream of Cardinal Road | +609 | Rockingham County (Unincorporated Areas).
| At Rockingham/Stokes County boundary | +657
Little Hogans Creek | At the confluence with Hogans Creek (into Dan River west) | +714 | Rockingham County (Unincorporated Areas).
| Approximately 1.1 miles upstream of Stanley Road | +789
Tributary 1 | At the confluence with Little Hogans Creek | +737 | Rockingham County (Unincorporated Areas).
| Approximately 0.4 mile upstream of the confluence with Little Hogans Creek | +753
Tributary 2 | At the confluence with Little Hogans Creek | +742 | Rockingham County (Unincorporated Areas).
| Approximately 1,950 feet upstream of the confluence with Little Hogans Creek | +758
Tributary 3 | At the confluence with Little Hogans Creek | +750 | Rockingham County (Unincorporated Areas).
| Approximately 0.5 mile upstream of the confluence with Little Hogans Creek | +773
Little Jacobs Creek | At the confluence with Jacobs Creek | +559 | Rockingham County (Unincorporated Areas).
| Approximately 1.5 miles upstream of Webb Loop | +617
Little Troublesome Creek | At the confluence with Haw River | +657 | Rockingham County (Unincorporated Areas), City of Reidsville.
| Approximately 1,000 feet upstream of Freeway Drive | +790
Massy Creek | At the confluence with Dan River | +546 | Rockingham County (Unincorporated Areas).
| Approximately 1.4 miles upstream of Smothers Road | +570
Massy Creek Tributary | At the confluence with Massy Creek | +546 | Rockingham County (Unincorporated Areas).
| Approximately 0.6 mile upstream of the confluence with Massy Creek | +605
Matrimony Creek | At the confluence with Dan River | +525 | Rockingham County (Unincorporated Areas), City of Eden.
| Approximately 400 feet upstream of the North Carolina/Virginia State boundary | +812
Matrimony Creek Tributary | At the confluence with Matrimony Creek | +664 | Rockingham County (Unincorporated Areas).
| Approximately 700 feet upstream of the confluence with Matrimony Creek | +668
Mayo River | Approximately 0.8 mile upstream of NC 135 | +593 | Rockingham County (Unincorporated Areas), Town of Mayodan.
| At the North Carolina/Virginia State boundary | +730
Tributary 11 | At the confluence with Mayo River | +665 | Rockingham County (Unincorporated Areas).
| Approximately 1,700 feet upstream of the confluence with Mayo River | +668
Tributary 12 | At the confluence with Mayo River | +667 | Rockingham County (Unincorporated Areas).
| Approximately 1,600 feet upstream of the confluence with Mayo River | +667
Tributary 14 | At the confluence with Mayo River | +673 | Rockingham County (Unincorporated Areas).
| Approximately 800 feet upstream of the confluence with Mayo River | +673
Tributary 16 | At the confluence with Mayo River | +678 | Rockingham County (Unincorporated Areas).
| Approximately 1,400 feet upstream of the confluence with Mayo River | +684
Tributary 17 | At the confluence with Mayo River | +681 | Rockingham County (Unincorporated Areas).
| Approximately 2,000 feet upstream of the confluence with Mayo River | +705
Tributary 18 | At the confluence with Mayo River | +684 | Rockingham County (Unincorporated Areas).
| Approximately 1,300 feet upstream of the confluence with Mayo River | +691
Tributary 19 | At the confluence with Mayo River | +687 | Rockingham County (Unincorporated Areas).
| Approximately 1,100 feet upstream of the confluence with Mayo River | +687
Tributary 20 | At the confluence with Mayo River | +687 | Rockingham County (Unincorporated Areas).
| Approximately 1,200 feet upstream of the confluence with Mayo River | +706
Tributary 21 | At the confluence with Mayo River | +690 | Rockingham County (Unincorporated Areas).
| Approximately 600 feet upstream of the confluence with Mayo River | +702
Tributary 22 | At the confluence with Mayo River | +694 | Rockingham County (Unincorporated Areas).
| Approximately 1,300 feet upstream of the confluence with Mayo River | +696
Tributary 23 | At the confluence with Mayo River | +697 | Rockingham County (Unincorporated Areas).
| Approximately 1,000 feet upstream of the confluence with Mayo River | +721
Tributary 24 | At the confluence with Mayo River | +697 | Rockingham County (Unincorporated Areas).
| Approximately 1,000 feet upstream of the confluence with Mayo River | +706
Tributary 25 | At the confluence with Mayo River | +698 | Rockingham County (Unincorporated Areas).
| Approximately 1,800 feet upstream of the confluence with Mayo River | +718
Tributary 26 | At the confluence with Mayo River | +700 | Rockingham County (Unincorporated Areas).
| At the confluence of Mayo River Tributary to Tributary 26 | +700
Tributary 27 | At the confluence with Mayo River | +701 | Rockingham County (Unincorporated Areas).
| Approximately 50 feet downstream of Anglin Mill Road | +731
Tributary 3 | At the confluence with Mayo River | +646 | Rockingham County (Unincorporated Areas).
| Approximately 1.2 miles upstream of US 220 | +684
Tributary 5 | At the confluence with Mayo River | +651 | Rockingham County (Unincorporated Areas).
| Approximately 1.4 miles upstream of Janet Road | +679
Tributary 6 | At the confluence with Mayo River | +652 | Rockingham County (Unincorporated Areas).
| Approximately 150 feet upstream of Chaney Loop | +663
Tributary 7 | At the confluence with Mayo River | +656 | Rockingham County (Unincorporated Areas).
| Approximately 1,600 feet upstream of the confluence with Mayo River | +676
Tributary of Tributary 26 | At the confluence with Mayo River Tributary 26 | +700 | Rockingham County (Unincorporated Areas).
| Approximately 450 feet upstream of old Anglin Loop | +722
Tributary of Tributary 5 | At the confluence with Mayo River Tributary 5 | +651 | Rockingham County (Unincorporated Areas).
| Approximately 1,000 feet upstream of the confluence with Mayo River Tributary 5 | +672
Means Creek | At the confluence with Mayo River | +676 | Rockingham County (Unincorporated Areas).
| Approximately 1,200 feet upstream of the confluence with Mayo River | +676
North Fork Jones Creek | At the confluence with Jones Creek | +612 | Rockingham County (Unincorporated Areas).
| Approximately 1,500 feet upstream of the confluence with Jones Creek | +624
Tributary of Tributary | Approximately 25 feet upstream of the confluence with North Fork Jones Creek | +672 | Rockingham County (Unincorporated Areas), City of Reidsville.
| Approximately 1,600 feet upstream of the confluence with North Fork Jones Creek | +695
Pawpaw Creek | At the confluence with Mayo River | +680 | Rockingham County (Unincorporated Areas).
| Approximately 250 feet upstream of Smith Road | +680
Pawpaw Creek Tributary | At the confluence with Pawpaw Creek | +680 | Rockingham County (Unincorporated Areas).
| Approximately 1,200 feet upstream of the confluence with Pawpaw Creek | +691
Reed Creek | Approximately 0.5 mile upstream of the confluence of Reed Creek Tributary | +586 | Rockingham County (Unincorporated Areas).
| At the Rockingham/Stokes County boundary | +606
Reed Creek Tributary | Approximately 600 feet upstream of the confluence with Reed Creek | +586 | Rockingham County (Unincorporated Areas), Town of Madison.
| Approximately 1.1 miles upstream of the confluence with Reed Creek | +609
Roach Creek | At the confluence with Dan River | +538 | Rockingham County (Unincorporated Areas).
| Approximately 0.9 mile upstream of the confluence of Roach Creek Tributary | +554
Roach Creek Tributary | At the confluence with Roach Creek | +538 | Rockingham County (Unincorporated Areas).
| Approximately 600 feet upstream of the confluence with Roach Creek | +566
Rock House Creek | At the confluence with Dan River | +538 | Rockingham County (Unincorporated Areas), Town of Wentworth.
| Approximately 0.6 mile upstream of NC 65 | +560
Rock House Creek Tributary | At the confluence with Rock House Creek | +538 | Town of Wentworth.
| Approximately 0.6 mile upstream of the confluence with Rock House Creek | +544
Rockingham Lake Creek | At the confluence with Hogans Creek (into Dan River east) | +519 | Rockingham County (Unincorporated Areas).
| Approximately 150 feet downstream of Anglers Drive | +533
Rose Creek | At the confluence with Haw River | +657 | Rockingham County (Unincorporated Areas).
| At the Guilford/Rockingham County boundary | +679
Smith River | At the confluence with Dan River | +522 | Rockingham County (Unincorporated Areas), City of Eden.
| At North Carolina/Virginia State boundary | +571
Tributary 1 | Approximately 280 feet upstream of the confluence with Smith River | +535 | City of Eden.
| Approximately 1,980 feet upstream of the confluence of Smith River Tributary 2 of Tributary 1 | +647
Tributary 1 of Tributary 1 | At the confluence with Smith River Tributary 1 | +556 | City of Eden.
| Approximately 1,630 feet upstream of the confluence with Smith River Tributary 1 | +595
Tributary 2 of Tributary 1 | At the confluence with Smith River Tributary 1 | +601 | City of Eden.
| Approximately 1,600 feet upstream of John Street | +656
South Mayo River | At the confluence with Mayo River | +726 | Rockingham County (Unincorporated Areas).
| At North Carolina/Virginia State boundary | +726
Town Creek | At the confluence with Dan River | +509 | Rockingham County (Unincorporated Areas).
| Approximately 1,300 feet upstream of NC 14 | +584
Tributary 1 | At the confluence with Town Creek | +509 | Rockingham County (Unincorporated Areas).
| Approximately 1.1 miles upstream of the confluence with Town Creek | +532
Tributary 3 | At the confluence with Town Creek | +509 | Rockingham County (Unincorporated Areas).
| Approximately 0.4 mile upstream of the confluence with Town Creek | +522
Tributary 4 | At the confluence with Town Creek | +524 | Rockingham County (Unincorporated Areas).
| Approximately 1.3 miles upstream of the confluence with Town Creek | +564
Tributary A to Little Troublesome Creek | Approximately 40 feet downstream of Forsyth Street | +753 | City of Reidsville.
| Approximately 700 feet upstream of Forsyth Street | +760
Tributary B to Little Troublesome Creek | Approximately 80 feet upstream of Cypress Drive | +733 | City of Reidsville.
| Approximately 0.8 mile upstream of Cypress Drive | +787
Tributary C to Little Troublesome Creek | Approximately 475 feet downstream of Summit Avenue | +755 | City of Reidsville.
| Approximately 25 feet downstream of Piedmont Street | +807
Troublesome Creek | At the confluence with Haw River | +661 | Rockingham County (Unincorporated Areas), City of Reidsville.
| At Monroeton Road | +707
Tributary 1 | At the confluence with Lake Reidsville and Troublesome Creek | +695 | Rockingham County (Unincorporated Areas), City of Reidsville.
| Approximately 1.7 miles upstream of the confluence with Troublesome Creek | +762
Tributary 2 | At the confluence with Lake Reidsville and Troublesome Creek | +695 | Rockingham County (Unincorporated Areas), City of Reidsville.
| Approximately 1.0 mile upstream of McCoy Road | +794
Tributary 3 | At the confluence with Lake Reidsville and Troublesome Creek | +699 | Rockingham County (Unincorporated Areas), City of Reidsville.
| Approximately 1.8 miles upstream of Iron Works Road | +741
Tributary 3A | At the confluence with Troublesome Creek Tributary 3 | +703 | Rockingham County (Unincorporated Areas), City of Reidsville.
| Approximately 2.1 miles upstream of Boyds Road | +758
Tributary 4 | At the confluence with Troublesome Creek | +743 | Rockingham County (Unincorporated Areas).
| Approximately 0.9 mile upstream of Brown Road | +776
Tributary 5 | At the confluence with Troublesome Creek | +766 | Rockingham County (Unincorporated Areas).
| Approximately 2,400 feet upstream of Hudson Road | +813
Whetstone Creek | At the confluence with Dan River | +531 | Rockingham County (Unincorporated Areas).
| Approximately 1,600 feet upstream of the confluence with Whetstone Creek Tributary | +534
Whetstone Creek Tributary | At the confluence with Whetstone Creek | +531 | Rockingham County (Unincorporated Areas).
| Approximately 0.4 mile upstream of the confluence with Whetstone Creek | +561
White Oak Creek | At the North Carolina/Virginia State boundary | +490 | Rockingham County (Unincorporated Areas).
| Approximately 1.0 mile upstream of Berry Hill Bridge Road | +536
Williamson Creek | At the confluence with Dan River | +470 | Rockingham County (Unincorporated Areas).
| Approximately 600 feet upstream of the confluence of Williamson Creek Tributary 11 | +560
Tributary 1 | At the confluence with Williamson Creek | +470 | Rockingham County (Unincorporated Areas).
| Approximately 0.4 mile upstream of the confluence with Williamson Creek | +483
Tributary 1 of Tributary 1 | At the confluence with Williamson Creek Tributary 1 | +470 | Rockingham County (Unincorporated Areas).
| Approximately 1,100 feet upstream of the confluence with Williamson Creek Tributary 1 | +496
Tributary 10 | At the confluence with Williamson Creek | +543 | Rockingham County (Unincorporated Areas).
| Approximately 900 feet upstream of the confluence with Williamson Creek | +549
Tributary 11 | At the confluence with Williamson Creek | +558 | Rockingham County (Unincorporated Areas).
| Approximately 500 feet upstream of the confluence with Williamson Creek | +569
Tributary 2 | At the confluence with Williamson Creek | +470 | Rockingham County (Unincorporated Areas).
| Approximately 1,600 feet upstream of the confluence with Williamson Creek | +495
Tributary 2 of Tributary 1 | At the confluence with Williamson Creek Tributary 1 | +475 | Rockingham County (Unincorporated Areas).
| Approximately 700 feet upstream of the confluence with Williamson Creek Tributary 1 | +489
Tributary 3 | At the confluence with Williamson Creek | +480 | Rockingham County (Unincorporated Areas).
| Approximately 800 feet upstream of the confluence with Williamson Creek | +520
Tributary 4 | At the confluence with Williamson Creek | +491 | Rockingham County (Unincorporated Areas).
| Approximately 750 feet upstream of the confluence with Williamson Creek | +506
Tributary 5 | At the confluence with Williamson Creek | +505 | Rockingham County (Unincorporated Areas).
| Approximately 500 feet upstream of the confluence with Williamson Creek | +511
Tributary 6 | At the confluence with Williamson Creek | +511 | Rockingham County (Unincorporated Areas).
| Approximately 700 feet upstream of the confluence with Williamson Creek | +522
Tributary 7 | At the confluence with Williamson Creek | +521 | Rockingham County (Unincorporated Areas).
| Approximately 550 feet upstream of the confluence with Williamson Creek | +529
Tributary 8 | At the confluence with Williamson Creek | +537 | Rockingham County (Unincorporated Areas).
| Approximately 500 feet upstream of the confluence with Williamson Creek | +547
Tributary 9 | At the confluence with Williamson Creek | +540 | Rockingham County (Unincorporated Areas).
| Approximately 1,000 feet upstream of the confluence with Williamson Creek | +548
Wolf Island Creek | Approximately 150 feet downstream of the Rockingham/Caswell County boundary | +472 | Rockingham County (Unincorporated Areas), City of Reidsville.
| Approximately 1,600 feet downstream of NC 14 | +627
Wolf Island Creek | Approximately 1,600 feet downstream of NC 14 | +628 | Rockingham County (Unincorporated Areas).
| At the upstream side of NC 14 | +635
Tributary 1 | At the upstream side of Wilson Road | +648 | Rockingham County (Unincorporated Areas), City of Reidsville.
| Approximately 0.5 mile upstream of Wilson Road | +653
Tributary 2 | Approximately 800 feet upstream of Freeway Drive | +701 | City of Reidsville.
| Approximately 350 feet upstream of Franklin Street | +751
Tributary near SR 1767 | At the confluence with Wolf Island Creek | +509 | Rockingham County (Unincorporated Areas).
| Approximately 0.5 mile upstream of the confluence with Wolf Island Creek | +518
Tributary near SR 1902 | At the confluence with Wolf Island Creek | +503 | Rockingham County (Unincorporated Areas).
| Approximately 1.2 miles upstream of the confluence with Wolf Island Creek | +542
Tributary of Tributary 2 | Approximately 500 feet upstream of the confluence with Wolf Island Creek Tributary 2 | +674 | Rockingham County (Unincorporated Areas), City of Reidsville.
| Approximately 900 feet upstream of Harrison Street | +776
* National Geodetic Vertical Datum.
# Depth in feet above ground.
+ North American Vertical Datum.
ADDRESSES
City of Eden
Maps are available for inspection at Eden City Hall, Planning and Inspections Department, 308 East Stadium Drive, Eden, North Carolina.
City of Reidsville
Maps are available for inspection at Reidsville City Hall, Department of Community Development, 2nd Floor, 230 West Morehead Street, Reidsville, North Carolina.
Town of Madison
Maps are available for inspection at Madison Town Hall, 120 North Market Street, Madison, North Carolina.
Town of Mayodan
Maps are available for inspection at Mayodan Town Hall, 210 West Main Street, Mayodan, North Carolina.
Town of Stoneville
Maps are available for inspection at Stoneville Town Hall, 101 Smith Street, Stoneville, North Carolina.
Town of Wentworth
Maps are available for inspection at Wentworth Town Hall, 292 NC Highway 65, Wentworth, North Carolina.
Rockingham County (Unincorporated Areas)
Maps are available for inspection at Rockingham County Planning and Inspections Department, Governmental Complex, 361 Highway 65, Wentworth, North Carolina.

(Catalog of Federal Domestic Assistance No. 83.100, “Flood Insurance”)

Dated: January 23, 2007.
David I. Maurstad,
Director, Mitigation Division, Federal Emergency Management Agency, Department of Homeland Security.

[FR Doc. E7-1769 Filed 2-2-07; 8:45 am]

BILLING CODE 9110-12-P